DEPARTMENT OF DEFENSE

Department of the Navy

[Docket ID: USN-2025-HQ-0268]

Proposed Collection; Comment Request

AGENCY: Department of the Navy, Department of Defense (DoD).

ACTION: 60-Day information collection notice.

SUMMARY: In compliance with the Paperwork Reduction Act of 1995, the Marine Corps Marathon Organization announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 17, 2026.

ADDRESSES: You may submit comments, identified by docket number and title, by any of the following methods:

Federal eRulemaking Portal: http://www.regulations.gov. Follow the instructions for submitting comments.

Mail: Department of Defense, Department of Defense, Privacy, Civil Liberties, and Transparency Directorate, Office of the Director of Administration & Management, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Marine Corps Marathon, PO Box 188, Quantico, VA 22134, ATTN: Lieutenant Colonel Kenneth A. Tarr, or call 703-432-8132.

SUPPLEMENTARY INFORMATION:

Title; Associated Form; and OMB Number: Marine Corps Marathon Satisfaction Survey; OMB Control Number 0712-MCMS.

Needs and Uses: The Marine Corps Marathon Office (MCMO) plans to conduct a voluntary customer satisfaction survey and economic impact study of its race participants. The purpose of this information collection is twofold: first, to gather feedback on the race experience to improve future events, and second, to measure the economic effects of the event on the local community.

The collection instrument will be an online survey consisting of 27 questions. It will be distributed via an email link to race participants following the Marine Corps Marathon. Questions will cover participant satisfaction with various event services (e.g., racecourse, medals, post-race festival) and their economic activities related to the race (e.g., length of stay, accommodations, and spending on food, transportation, and retail).

Information gathered will be used by the MCMO for internal improvements and to enhance its partnerships with local community stakeholders in Washington, DC and the surrounding areas by providing a clear understanding of the event's economic impact. All individual responses will be kept anonymous and confidential. The summary of results will be shared in a report submitted to MCMO, and the economic impact findings will be shared with local community partners.

Affected Public: Individuals or households.

Annual Burden Hours: 280.

Number of Respondents: 1,679.

Responses per Respondent: 1.

Annual Responses: 1,679.

Average Burden per Response: 10 minutes.

Frequency: Annually.

Dated: December 12, 2025.
Stephanie J. Bost,
Alternate OSD Federal Register Liaison Officer, Department of Defense.

[FR Doc. 2025-22981 Filed 12-15-25; 8:45 am]

BILLING CODE 6001-FR-P